ENVIRONMENTAL PROTECTION AGENCY

[FRL-6713-5]

Adequacy Status of Motor Vehicle Emissions Budgets in Submitted State Implementation Plans for Transportation Conformity Purposes; Delaware; Revised Phase II SIP for the Philadelphia-Wilmington-Trenton Ozone Nonattainment Area

AGENCY: Environmental Protection Agency (EPA).

ACTION: Notice of adequacy status.

SUMMARY: EPA is announcing that the revised motor vehicle emissions budgets (budgets) contained in the revised Phase II Plan for the Philadelphia-Wilmington-Trenton Ozone Nonattainment Area submitted by the State of Delaware as a State Implementation Plan (SIP) revision are adequate for transportation conformity purposes. The State of Delaware submitted its revised 2005 attainment demonstration (attainment plan) for the Philadelphia-Wilmington-Trenton Ozone Nonattainment Area on January 24, 2000. On February 3, 2000, Delaware submitted and its Post 1999 Rate-of-Progress (ROP) Plan (for milestone year 2002) for the Delaware portion of the Philadelphia-Wilmington-Trenton area , Kent and New Castle Counties. The combination of the attainment plan and Post 99 ROP plan are commonly referred to as the Phase II plan. EPA has found the budgets in the revised Phase II Plan submitted by the State of Delaware for the Philadelphia-Wilmington-Trenton Ozone Nonattainment Area adequate for transportation conformity purposes.

DATES: The findings that the budgets are adequate were made in a letter dated May 31, 2000 from EPA Region III to the Delaware Department of Natural Resources and Environmental Control (DNREC) and are effective on June 23, 2000.

FOR FURTHER INFORMATION CONTACT: Larry Budney, U.S. EPA, Region III, 1650 Arch Street, Philadelphia, PA. 19103 at (215) 814-2184 or by e-mail at: Budney.Larry@epa.gov.

SUPPLEMENTARY INFORMATION: Throughout this document the terms “we,” “us,” or “our” refer to EPA. The word “budgets” refers to the motor vehicle emission budgets for volatile organic compounds (VOCs) and nitrogen oxides (NOX). The words “revised Phase II SIP” in this document refers to the 2005 attainment demonstration for the Philadelphia-Wilmington-Trenton Ozone Nonattainment Area submitted to EPA by the DNREC on January 24, 2000 and the Post 1999 ROP plan (2002) for the Delaware portion of the area submitted to EPA by DNREC on February 3, 2000. The Phase II SIP includes the attainment demonstration for the one-hour National Ambient Air Quality Standard (NAAQS) for ozone for the Philadelphia-Wilmington-Trenton Ozone Nonattainment Area and the Post 99 ROP plan (2002) for the Delaware portion of the area.

On March 2, 1999, the D.C. Circuit Court ruled that the budgets contained in submitted SIPs cannot be used for transportation conformity determinations until EPA has affirmatively found them adequate.

The State of Delaware submitted a revised 2005 attainment plan for the Philadelphia-Wilmington-Trenton Ozone Nonattainment Area to EPA on January 24, 2000 and a Post 1999 ROP plan (2002) for the Delaware portion of the area on February 3, 2000. On March 2, 2000, we posted the availability of the revised Phase II plan and the budgets contained in the plan on our conformity website for the purpose of soliciting public comment on the adequacy of the mobile budgets. The comment period closed on April 3, 2000.

On May 31, 2000, we sent a letter to DNREC that constituted final Agency actions on the adequacy of the budgets contained in the revised Phase II SIP. Those actions were EPA's findings that the budgets are adequate for transportation conformity purposes. As a result of our findings, the budgets contained in Delaware's revised Phase II SIP for the Philadelphia-Wilmington-Trenton Ozone Nonattainment Area may be used for future conformity determinations.

This is an announcement of adequacy findings that we already made on May 31, 2000. The effective date of these findings is June 23, 2000. These findings will also be announced on EPA's website: http://www.epa.gov/oms/traq, (once there, click on the “Conformity” button, then look for “Adequacy Review of SIP Submissions for Conformity”). The website will contain a detailed analysis of our adequacy findings and our responses to the public comments received.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118(e)(4).

Please note that an adequacy finding of budgets in a submitted SIP is separate from EPA's completeness determination of that SIP, and separate from EPA's final action as to approve or disapprove the SIP. Even if we find budgets adequate, the SIP could later be disapproved. We describe our process for determining the adequacy of submitted SIP budgets in a guidance memorandum dated May 14, 1999 entitled “Conformity Guidance on Implementation of March 2, 1999 Conformity Court Decision”. We followed this guidance in making our May 31, 2000 adequacy findings for the budgets contained in the Delaware's January 24, 2000 submittal of its revised 2005 attainment plan for the Philadelphia-Wilmington-Trenton Ozone Nonattainment Area and in its February 3, 2000 submittal of its Post 1999 ROP plan (2002) for the Delaware portion of the area. You may obtain a copy of this guidance from EPA's conformity website referred to above or by calling the contact name listed in the FOR FURTHER INFORMATION CONTACT section of this notice.

Authority: 42 U.S.C. 7401-7671q.

Dated: June 1, 2000.
Bradley M. Campbell,
Regional Administrator, Region III.

[FR Doc. 00-14600 Filed 6-7-00; 8:45 am]

BILLING CODE 6560-50-U